DEPARTMENT OF COMMERCE

National Oceanic and Atmospheric Administration

[110700A]

Submission for OMB Review; Comment Request

AGENCY: National Oceanic and Atmospheric Administration (NOAA), Commerce.

ACTION: At-Sea Scale Certification Program.

SUPPLEMENTARY INFORMATION: The Department of Commerce has submitted to the Office of Management and Budget (OMB) for clearance the following proposal for collection of information under the provisions of the Paperwork Reduction Act (44 U.S.C. Chapter 35).

Form Number(s): None.

OMB Approval Number: 0648-0330.

Type of Request: Regular submission.

Burden Hours: 3,508.

Number of Respondents: 49.

Average Hours Per Response: 45 minutes for a daily scale test, 6 minutes per day to retain printed scale output, 6 minutes to request a scale inspection, 6 minutes to attach a scale approval sticker, 6 minutes for an application for authority to inspect scales, 2 hours for a request for an observer station inspection, and 30-190 hours for scale type evaluations.

Needs and Uses: Fishermen on certain Federally-regulated fisheries off Alaska must weigh their catch at sea on approved scales. Vessels must request inspection of scales and observer stations, test their scales daily, and maintain output from the scales. Related information collection requirements are requests from scale manufacturers to have their scale approved, and requests from non-NOAA scale inspectors to have authority to conduct scale inspections.

Affected Public: Business and other for-profit organizations.

Frequency: Daily, annually, and on occasion.

Respondent's Obligation: Mandatory.

OMB Desk Officer: David Rostker, (202) 395-3897.

Copies of the above information collection proposal can be obtained by calling or writing Madeleine Clayton, DOC Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: November 3, 2000.
Gwellnar Banks,
Management Analyst, Office of the Chief Information Officer.

[FR Doc. 00-28952 Filed 11-9-00; 8:45 am]

BILLING CODE: 3510-22 -S